DEPARTMENT OF TRANSPORTATION

Federal Aviation Administration

[Docket Number: FAA-2021-0179]

Agency Information Collection Activities: Requests for Comments; Clearance of Renewed Approval of Information Collection: Airport Noise Compatibility Planning

AGENCY: Federal Aviation Administration (FAA), DOT.

ACTION: Notice and request for comments.

SUMMARY: In accordance with the Paperwork Reduction Act of 1995, the Federal Aviation Administration (FAA) invites public comments about our intention to request the Office of Management and Budget's (OMB) approval to renew an information collection. The collection involves information on voluntary airport noise compatibility programs. The information to be collected is necessary because noise compatibility program measures are eligible for Federal grants in-aid if they are provided to FAA for review and approval in advance. The respondents are airport sponsors that voluntarily submit noise exposure maps and noise compatibility programs to the FAA for review and approval.

DATES: Send comments on or before June 8, 2021.

ADDRESSES: Interested persons are invited to submit written comments on the proposed information collection to the Office of Information and Regulatory Affairs, Office of Management and Budget. Comments should be addressed to the attention of the Desk Officer, Department of Transportation/FAA. Comments can be submitted via electronic mail to oirasubmission@omb.eop.gov or by the following additional options:

By mail to: The Office of Information and Regulatory Affairs, Office of Management and Budget, Docket Library, Room 10102, 725 17th Street NW, Washington, DC 20503 or

By fax to: 202-395-6974

By Electronic Docket: www.regulations.gov (Enter docket number into search field).

FOR FURTHER INFORMATION CONTACT: Susan Staehle by electronic mail at: susan.staehle@faa.gov or by phone at: 202-267-7935.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0517.

Title: Airport Noise Compatibility Planning.

Form Numbers: There are no FAA forms associated with this collection.

Type of Review: Renewal of an Information Collection.

Background: The voluntarily submitted information from the current collection process pursuant to Tile 14 Code of Federal Regulations (CFR) part 150, (e.g., airport noise exposure maps and airport noise compatibility programs, or their revisions) is used by the FAA to conduct reviews of the submissions to determine if an airport sponsor's noise compatibility program is eligible for Federal grant funds. If airport sponsors did not voluntarily submit noise exposure maps and noise compatibility programs for FAA review and approval, the airport sponsor would not be eligible for the set aside of discretionary grant funds.

Respondents: Approximately 15 airport sponsors.

Frequency: Information is collected on occasion.

Estimated Average Burden per Response: 3,744 hours.

Estimated Total Annual Burden: 56,160 hours.

Issued in: Washington, DC, March 31, 2021.
Susan Staehle,
Environmental Protection Specialist, Office of Airports, Planning and Environmental Division, APP-400.

[FR Doc. 2021-06945 Filed 4-8-21; 8:45 am]

BILLING CODE 4910-13-P